DEPARTMENT OF TRANSPORTATION

Federal Aviation Administration

Agency Information Collection Activities: Requests for Comments; Clearance of Renewed Approval of Information Collection: Aircraft Registration Renewal

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 23, 2011, vol. 76, no. 185, page 59185. Aircraft owners are required to complete the Aircraft Registration Renewal to verify the registration information and renew registration triennially. The information collected on an Aircraft Re-Registration Application, AC Form 8050-1A will be used by the FAA to verify and update aircraft registration information collected for an aircraft when it was first registered.

DATES: Written comments should be submitted by January 3, 2012.

FOR FURTHER INFORMATION CONTACT: Kathy DePaepe at (405) 954-9362, or by email at: Kathy.A.DePaepe@faa.gov.

SUPPLEMENTARY INFORMATION: OMB Control Number: 2120-0729.

Title: Aircraft Registration Renewal.

Form Numbers: AC Form 8050-1A.

Type of Review: Renewal of an information collection.

Background: The information collected on an Aircraft Re-Registration Application, AC Form 8050-1A will be used by the FAA to verify and update aircraft registration information collected for an aircraft when it was first registered using the Aircraft Registration Application, AC Form 8050-1, (approved under OMB control number 2120-0042). The updated registration database will then be used by the FAA to monitor and control U.S. airspace and to distribute safety notices and airworthiness directives to aircraft owners.

Respondents: Approximately 72,996 aircraft owners.

Frequency: Information is collected triennially.

Estimated Average Burden per Response: 30 minutes.

Estimated Total Annual Burden: 36,498 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on November 22, 2011.
Jonathan E. Jones,
Acting Program Manager, IT Enterprises Business Services Division, AES-200.

[FR Doc. 2011-30888 Filed 11-30-11; 8:45 am]

BILLING CODE 4910-13-P